DEPARTMENT OF ENERGY

Federal Energy Regulatory Commission

[Docket No. EG01-228-000, et al.]

Conemaugh Power LLC, et al.; Electric Rate and Corporate Filings

December 12, 2003.

The following filings have been made with the Commission. The filings are listed in ascending order within each docket classification.

1. Conemaugh Power LLC, Constellation Power Source Generation, Inc., PPL Montour, LLC, PSEG Fossil LLC, Reliant Energy Mid-Atlantic Power Holdings, LLC and UGI Development Company

[Docket Nos. EG01-228-000, EG00-179-000, EG00-44-000, EG00-3-000, EG00-24-000, EG00-24-000 and EG99-241-000]

Take notice that on December 3, 2003, Conemaugh Power LLC, Constellation Power Source Generation, Inc., PPL Montour, LLC, PSEG Fossil LLC, Reliant Energy Mid-Atlantic Power Holdings, LLC and UGI Development Company (Conemaugh EWG Owners) tendered for filing a Notification of Change in Facts Not Affecting Exempt Wholesale Generator Status.

The Conemaugh EWG Owners have served copies of the foregoing on the Pennsylvania Public Utility Commission and the Securities and Exchange Commission.

Comment Date: December 24, 2003.

2. NRG Power Marketing Inc.; Arthur Kill Power LLC; Astoria Gas Turbine Power LLC; Bayou Cove Peaking Power LLC; Big Cajun I Peaking Power LLC; Conemaugh Power LLC; Connecticut Jet Power LLC; Devon Power LLC; Dunkirk Power LLC; Huntley Power LLC; Indian River Power LLC; Keystone Power LLC; Louisiana Generating LLC; LSP Energy Limited Partnership; LSP-Kendall Energy; LLC; LSP-Nelson Energy LLC; LSP-Pike Energy LLC; Meriden Gas Turbines LLC; Middletown Power LLC; Montville Power LLC; NEO California Power LLC; NEO Chester-Gen LLC; NEO Freehold-Gen LLC; NM Colton Genco LLC; NM Mid Valley Genco LLC; NM Milliken Genco LLC; Norwalk Power LLC; NRG Ashtabula Generating LLC; NRG Audrain Generating LLC; NRG Energy Center Dover LLC; NRG Ilion LP; NRG Lake Shore Generating LLC; NRG Marketing Services LLC; NRG McClain LLC; NRG New Jersey Energy Sales LLC; NRG Northern Ohio Generating LLC; NRG Rockford LLC; NRG Rockford II LLC; NRG Sterlington Power LLC; Oswego Harbor Power LLC; Somerset Power LLC; and Vienna Power LLC

[Docket Nos. ER97-4281-013; ER99-2161-004; ER99-3000-002; ER02-1572-001; ER02-1571-001; ER00-2810-002; ER99-4359-001; ER99-4358-001; ER99-2168-004; ER99-2162-004; ER00-2807-002; ER00-2809-002; ER00-1259-002; ER98-2259-003; ER99-2602-003; ER00-2448-002; ER02-538-001; ER02-566-001; ER99-4355-001; ER99-4356-001; ER01-1558-001; ER00-3160-002; ER03-320-004; ER03-321-004; ER03-322-004; ER99-4357-001; ER02-1055-001; ER01-2969-002; ER00-2313-002; ER02-1395-001; ER02-1056-001; ER03-955-003; ER02-68-002; ER02-2032-001; ER02-1054-001; ER02-1396-001; ER02-1412-001; ER00-3718-002; ER99-3637-002; ER99-1712-004; and ER00-2808-002]

Take notice that on December 8, 2003, NRG Power Marketing Inc. and the above-captioned affiliates tendered for filing an updated market power study in compliance with the Commission's orders granting each entity market-based rate authorization.

Comment Date: December 29, 2003.

3. American Transmission Company LLC

[Docket No. ER03-1211-002]

Take notice that on December 10, 2003, American Transmission Company LLC (ATCLLC) tendered for filing a revised Generation-Transmission Interconnection Agreement between ATCLLC and Fox Energy Company LLC (Second Revised Service Agreement No. 233) consisting of amendments to Exhibit 11 and otherwise remaining as originally filed and accepted by the Commission by Letter Order dated March 20, 2002, subject to a previous amendment accepted by the Commission on May 29, 2003. ATCLLC requests retention of the original effective date of January 15, 2002. ATCLLC states that this is a refiling of the same revisions contained in ATCLLC's August 14, 2003 filing in a format complying with the Commission's conditional acceptance in its September 23, 2003 Letter Order and deleting certain extraneous documents.

Comment Date: December 31, 2003.

4. DC Tie, Inc.

[Docket No. ER04-105-001]

Take notice that on December 9, 2003, DC Tie, Inc. submitted for filing a Notice of Cancellation of its market-based rate authority under Docket No. ER91-435-000. DC Tie, Inc. is requesting an effective date of October 28, 2003.

Comment Date: December 30, 2003.

5. New York Independent System Operator, Inc.

[Docket No. ER04-230-000]

Take notice that on November 26, 2003, the New York Independent System Operator, Inc. (NYISO) tendered for filing revisions to the ISO Market Administration and Control Area Services Tariff (the Services Tariff) and its Open Access Transmission Tariff proposing a number of tariff revisions associated with the implementation of new Real-Time Scheduling software and related market improvements. On December 1, 2003, NYISO submitted revision to its Market Administration and Control Area Services Tariff and Open Access Transmission Tariff to update their table of contents which the Commission noticed in Docket No. ER04-230-001on December 5, 2003.

The NYISO states it has electronically served a copy of this filing on the official representative of each of its customers, on each participant in its stakeholder committees, on the New York Public Service Commission, and on the electric utility regulatory agencies of New Jersey and Pennsylvania, and in addition, the complete filing has been posted on the NYISO's Web site at www.nyiso.com and will make a paper copy available to any interested party that requests one.

Comment Date: December 22, 2003.

6. PJM Interconnection, L.L.C.

[Docket No. ER04-261-001]

Take notice that on December 9, 2003, PJM Interconnection, L.L.C. (PJM), submitted for filing a revised Interconnection Service Agreement (ISA) among PJM, American Project Development Corp/American Hydro Power Company/American Hydro Power Partners, L.P., and Pennsylvania Electric Company.

PJM requests a waiver of the Commission's 60-day notice requirement to permit a November 4, 2003 effective date for the ISA.

PJM states that copies of this filing were served upon the parties to the agreements, the state regulatory commissions within the PJM region, and the official service list compiled by the Secretary in this proceeding.

Comment Date: December 30, 2003.

7. DeSoto County Generating Co., LLC, Carolina Power & Light Company, Progress Ventures, Inc., Effingham County Power, LLC, MPC Generating, LLC, Rowan County Power, LLC, Walton County Power, LLC, and Washington County Power, LLC

[Docket No. ER04-269-000]

Take notice that, on December 8, 2003, Progress Energy, Inc. (Progress Energy), on behalf of the Progress Energy subsidiaries listed in the above caption (Progress Energy Subsidiaries), submitted amendments to the market-based rate tariffs of the Progress Energy Subsidiaries providing that they will not engage in market-based sales within Peninsular Florida under those tariffs without making a separate filing pursuant to Section 205 of the Federal Power Act.

Progress Energy states that copies of the filing were served on the official service lists in Docket Nos. ER03-1383-000 and ER03-1389-000, each entity operating a control area in Peninsular Florida, and the Florida Public Service Commission.

Comment Date: December 29, 2003.

8. Virginia Electric and Power Company

[Docket No. ER04-270-000]

Take notice that on December 9, 2003, Virginia Electric and Power Company (Dominion Virginia Power) tendered for filing a Service Agreement for Network Integration Transmission Service and Network Operating Agreement by Dominion Virginia Power to North Carolina Electric Membership Corporation, designated as Service Agreement Number 376, under Dominion Virginia Power's Open Access Transmission Tariff, FERC Electric Tariff, Second Revised Volume No. 5, to Eligible Purchasers dated June 7, 2000.

Dominion Virginia Power respectfully requests an effective date of January 1, 2004, as requested by the Customer.

Comment Date: December 30, 2003.

9. Virginia Electric and Power Company

[Docket No. ER04-271-00]

Take notice that on December 9, 2003, Virginia Electric and Power Company (Dominion Virginia Power) tendered for filing a Service Agreement for Network Integration Transmission Service and Network Operating Agreement by Dominion Virginia Power to Washington Gas Energy Services, Inc., designated as Service Agreement Number 377, under Dominion Virginia Power's Open Access Transmission Tariff, FERC Electric Tariff, Second Revised Volume No. 5, to Eligible Purchasers dated June 7, 2000.

Dominion Virginia Power respectfully requests a waiver of the Commission's regulations to permit an effective date of November 9, 2003, as requested by the customer.

Comment Date: December 30, 2003.

10. American Electric Power Service Corporation

[Docket No. ER04-273-000]

Take notice that on December 9, 2003, the American Electric Power Service Corporation (AEPSC) tendered for filing pursuant to Section 35.15 of the Federal Energy Regulatory Commission's regulation, 18 CFR Section 35.15, a Notice of Termination of an executed Interconnection and Operation Agreement between Ohio Power Company and Biomass Energy, LLC., designated as Service Agreement No. 514 under AEP Companies' Open Access Transmission Service Tariff (OATT). AEP requests an effective date of December 8, 2003.

AEPSC states that a copy of the filing was served upon Biomass Energy, LLC and the Public Utilities Commission of Ohio.

Comment Date: December 30, 2003.

11. PacifiCorp

[ Docket No. ER04-274-000]

Take notice that on December 10, 2003, PacificCorp tendered for filing in accordance with 18 CFR 35 of the Commission's Rules and Regulations a Notice of Cancellation of PacifiCorp's Rate Schedule No. 423 with Springfield Utility Board. The Notice of Cancellation is effective November 30, 2003.

PacifiCorp states that copies of this filing were supplied to Springfield Utility Board; the Washington Utilities and Transportation Commission and the Public Utility Commission of Oregon.

Comment Date: December 31, 2003.

12. Twin Cities Power Generation

[Docket No. ER04-275-000]

Take notice that on December 10, 2003, Twin Cities Power Generation, (Twin Cities) submitted for filing a Petition for Acceptance of Initial Rate Schedule, Waivers and Blanket Authority, Rate Schedule FERC No. 1.

Comment Date: December 31, 2003.

13. American Electric Power Service Corporation

[Docket No. ER04-276-000]

Take notice that on December 10, 2003, the American Electric Power Service Corporation (AEPSC) tendered for filing First Amendment to an Amended Interconnection and Operation Agreement between Ohio Power Company and Lima Energy Company. The agreement is pursuant to the AEP Companies' Open Access Transmission Service Tariff (OATT) and designated as First Revised Service Agreement No. 463, effective date July 13, 2002, to the Operating Companies of the American Electric Power System FERC Electric Tariff Third Revised Volume No. 6. AEP requests an effective date of February 9, 2004.

AEPSC states a copy of the filing was served upon Lima Energy Company and the Public Utilities Commission of Ohio.

Comment Date: December 31, 2003.

14. Alcoa Power Generating, Inc.

[Docket No. ER04-277-000]

Take notice that on December 10, 2003, Alcoa Power Generating, Inc. (APGI) tendered for filing in accordance with 18 CFR 35 of the Commission's Rules and Regulations a Notice of Termination of APGI's Rate Schedule No. 11 with PacifiCorp. APGI requests waiver of the Commission's prior notice requirements so that the termination may be effective June 30, 2003.

APGI states that copies of this filing were supplied to PacifiCorp, Public Utility District No. 1 of Chelan County; the Washington Utilities and Transportation Commission and the Public Utility Commission of Oregon.

Comment Date: December 31, 2003.

15. Milford Power Limited Partnership

[Docket No. ER04-278-000]

Take notice that on December 10, 2003, Milford Power Limited Partnership (Milford) filed with the Federal Energy Regulatory Commission pursuant to Section 205 of the Federal Power Act an Application for Order Accepting Initial Market-Based Rate Schedule and Granting Certain Waivers and Blanket Approvals, which would allow Milford to engage in the sale of electric energy, capacity and ancillary services at market-based rates. Milford states that it is engaged in the business of owning and operating a generation facility located in Milford, New Jersey, with a nameplate capacity of 30.5 MW. Milford seeks certain waivers and blanket approvals under the Commission's regulations. Milford also seeks expedited review and a waiver of the 60-day pre-filing requirement under 18 CFR 35.3 (2003).

Comment Date: December 31, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00599 Filed 12-19-03; 8:45 am]

BILLING CODE 6717-01-P